SMALL BUSINESS ADMINISTRATION

[Disaster Declaration # 10428 and # 10429; Missouri Disaster # MO-00002]

Notice of a Disaster Declaration

AGENCY: U.S. Small Business Administration.

SUMMARY: This is a Notice of the Presidential declaration of a major disaster for the State of Missouri (FEMA-1631-DR), dated March 16, 2006.

Incident: Severe storms, tornadoes, and flooding.

Incident Period: March 11, 2006 through March 13, 2006.

Effective Date: March 16, 2006.

Physical Loan Application Deadline Date: May 15, 2006.

Economic Injury (EIDL) Loan Application Deadline Date: December 15, 2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on March 16, 2006, applications for disaster loans may be filed at the address listed above or other locally announced locations.

The following areas have been determined to be adversely affected by the disaster:

Primary Counties (Physical Damage and Economic Injury Loans):

Christian, Hickory, Johnson, Monroe, Perry, Pettis, Randolph, Saline, and Ste. Genevieve.

Contiguous Counties (Economic Injury Loans Only):

Missouri: Audrain, Benton, Bollinger, Boone, Camden, Cape Girardeau, Carroll, Cass, Chariton, Cooper, Dallas, Douglas, Greene, Henry, Howard, Jackson, Jefferson, Lafayette, Lawrence, Macon, Madison, Marion, Morgan, Polk, Ralls, Shelby, St. Clair, St. Francois, Stone, Taney, and Webster.

Illinois: Jackson, Monroe, Randolph, and Union.

The Interest Rates are:

| Percent
Homeowners with Credit Available Elsewhere | 5.750
Homeowners without Credit Available Elsewhere | 2.875
Businesses with Credit Available Elsewhere | 7.408
Businesses & Small Agricultural Cooperatives without Credit Available Elsewhere | 4.000
Other (Including Non-Profit Organizations) with Credit Available Elsewhere | 5.000
Businesses And Non-Profit Organizations without Credit Available Elsewhere | 4.000

(Catalog of Federal Domestic Assistance Numbers 59002 and 59008)

Herbert L. Mitchell,
Associate Administrator for Disaster Assistance.

[FR Doc. E6-4261 Filed 3-23-06; 8:45 am]

BILLING CODE 8025-01-P